DEPARTMENT OF THE INTERIOR

Fish and Wildlife Service

[FWS-R1-ES-2020-N089; FXES11130100000-201-FF01E00000]

Endangered and Threatened Wildlife and Plants; Draft Recovery Plan for Five Species From American Samoa

AGENCY: Fish and Wildlife Service, Interior.

ACTION: Notice of availability; request for comment.

SUMMARY: We, the U.S. Fish and Wildlife Service (Service), announce the availability of the Draft Recovery Plan for Five Species from American Samoa. The draft recovery plan includes specific goals, objectives, and criteria necessary to remove these species from the Federal List of Endangered and Threatened Wildlife. We request review of this draft recovery plan and invite comments from local, Territorial, and Federal agencies, nongovernmental organizations, and the public.

DATES: To ensure consideration, we must receive written comments on or before August 16, 2021. However, we will accept information about the species at any time.

ADDRESSES: Reviewing documents: If you wish to review the draft recovery plan, you may obtain copies on our website, at https://ecos.fws.gov/docs/recovery_plan/Draft_American_Samoa_Recovery_Plan.pdf. You may also request copies of the draft recovery plan by contacting Grant Canterbury at the email address below.

Submitting comments: If you wish to comment, submit your comments by one of the following methods:

1. U.S. Mail: You may submit written comments and materials to Field Supervisor, Attention: Draft American Samoa Recovery Plan, Pacific Islands Fish and Wildlife Office, U.S. Fish and Wildlife Service, 300 Ala Moana Boulevard, Room 3122, Honolulu, HI 96850; or

2. Email: You may send comments by email to grant_canterbury@fws.gov. Please include “Draft American Samoa Recovery Plan Comments” in the subject line.

FOR FURTHER INFORMATION CONTACT: Megan Laut, Recovery Coordinator, at the above U.S. mail address, or by telephone at (808) 792-9400. Individuals who are hearing impaired may call the Federal Relay Service at (800) 877-8339 for TTY assistance.

SUPPLEMENTARY INFORMATION: We, the U.S. Fish and Wildlife Service (Service), announce the availability of the Draft Recovery Plan for Five Species from American Samoa. This recovery plan addresses recovery of one mammal (South Pacific subspecies of Pacific sheath-tailed bat or peapea vai [Emballonura semicaudata semicaudata], two birds (mao [Gymnomyza samoensis] and the American Samoa distinct population segment (DPS) of friendly ground-dove or tuaimeo [Gallicolumba stairi]), and two snails (Eua zebrina and Ostodes strigatus). The snails and the American Samoa DPS of tuaimeo are endemic to American Samoa; the mao and peapea vai appear to be extirpated from American Samoa, but populations of these species remain extant outside of U.S. jurisdiction.

Background

Recovery of endangered or threatened animals and plants to the point where they are again secure, self-sustaining members of their ecosystems is a primary goal of our endangered species program and the Endangered Species Act (ESA; 16 U.S.C. 1531 et seq.). Recovery means improvement of the status of listed species to the point at which listing is no longer appropriate under the criteria set out in section 4(a)(1) of the ESA. The ESA requires the development of recovery plans for listed species, unless such a plan would not promote the conservation of a particular species.

The purpose of a recovery plan is to provide a feasible and effective roadmap for a species' recovery, with the goal of improving its status and managing its threats to the point at which protections under the ESA are no longer needed. Recovery plans must be designed so that all stakeholders and the public understand the rationale behind the recovery program, whether they were involved in writing the plan or not, and recognize their role in its implementation. We are requesting submission of any information that enhances the necessary understanding of the species' biology and threats and its recovery needs and related implementation issues or concerns, to ensure that we have assembled, considered, and incorporated the best available scientific and commercial information into the draft recovery plan.

Recovery plans provide important guidance to the Service, States, other partners, and the public on methods of minimizing threats to listed species and objectives against which to measure the progress towards recovery; they are guidance and not regulatory documents. A recovery plan identifies, organizes, and prioritizes recovery actions and is an important guide that ensures sound scientific decision-making throughout the recovery process, which can take decades.

The recovery criteria established in a recovery plan (such as those proposed in this draft recovery plan) will serve as an indicator that a review of the species' status is advisable. We may consider downlisting, or if appropriate, removal from the Federal List of Endangered and Threatened Wildlife following a five-factor threats analysis in accordance with section 4(a)(1) of the ESA.

Draft Recovery Plan

The draft recovery plan recommends a combination of recovery actions including biosecurity measures; control of introduced predators including rats, cats and invertebrates; forest habitat protection; species surveys and research; and translocation to additional islands.

Request for Public Comments

Section 4(f) of the ESA requires us to provide public notice and an opportunity for public review and comment during recovery plan development. It is also our policy to request peer review of recovery plans (July 1, 1994; 59 FR 34270). Substantive comments may or may not result in changes to the recovery plan. Comments regarding recovery plan implementation will be forwarded, as appropriate, to Federal or other entities so they can be taken into account during the course of implementing recovery actions. Responses to individual commenter will not be provided. However, we will provide a summary of how we addressed substantive comments in an appendix to the approved recovery plan.

We invite written comments on the draft recovery plan. In particular, we are interested in additional information regarding the current threats to the species, ongoing beneficial management efforts, and the costs associated with implementing the recommended recovery actions.

Public Availability of Comments

All comments received, including names and addresses, will become part of the administrative record and will be available to the public. Before including your address, phone number, email address, or other personal identifying information in your comment, you should be aware that your entire comment—including your personal identifying information—will be publicly available. If you submit a hardcopy comment that includes personal identifying information, you may request at the top of your document that we withhold this information from public review. However, we cannot guarantee we will be able to do so.

Authority

The authority for this action is section 4(f) of the Endangered Species Act (16 U.S.C. 1533 (f)).

Rolland White,
Acting Deputy Regional Director.

[FR Doc. 2021-10324 Filed 5-14-21; 8:45 am]

BILLING CODE 4333-15-P